DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Survey of Organized Consumer Self-Help Entities—(OMB No. 0930-0214, extension)—The mutual support and self-help movement in the United States has mushroomed, and significant numbers of mental health consumer-operated businesses and services are emerging. Increasingly, these groups, organizations, and business are providing support and services to mental health consumers and family members as a complement to, or substitution for, traditional mental health services. The purposes of this project of SAMHSA's Center for Mental Health Services are to estimate the number of these mental health groups, organizations, and businesses nationwide and to describe their characteristics—structure, types of activities engaged in, approaches to well-being and recovery, resources, and linkages to other community groups, organizations, and businesses and services, such as the mental health service delivery system. The survey will gather information from a sample of approximately 3,900 mutual support groups and self-help organizations run by and for recipients of mental health services and/or their family members and consumer-operated businesses and services. Computer Assisted Telephone Interviewing (CATI) will be used to conduct interviews with in-scope groups, organizations and businesses. This extension will allow for completion of the survey. The total response burden estimate is shown below.

Instrument | Number of respondents | Responses/respondent | Average burden/response (hrs.) | Total burden (hrs.)
Universe Development Contacts | 2,736 | 1 | .17 | 465
Screener | 3,933 | 1 | .17 | 668
Questionnaire | 3,933 | 1 | .42 | 1,652
Total |  |  |  | 2,785

Written comments and recommendations concerning the proposed information collection should be sent within 30 days of this notice to: Lauren Wittenberg, Human Resources and Housing Branch, Office of Management and Budget, New Executive Office Building, Room 10235, Washington, DC 20503.

Dated: July 2, 2001.
Richard Kopanda,
Executive Officer, SAMHSA.

[FR Doc. 01-17044 Filed 7-6-01; 8:45 am]

BILLING CODE 4162-20-P